DEPARTMENT OF ENERGY

Federal Energy Regulatory Commission

Combined Notice of Filings #1

Take notice that the Commission received the following electric rate filings:

Docket Numbers: ER19-2785-001.

Applicants: PJM Interconnection, L.L.C.

Description: Tariff Amendment: Amendment to ER19-2785-000 RE: AE2-061 ISA No. 2142 to be effective 8/12/2019.

Filed Date: 10/25/19.

Accession Number: 20191025-5027.

Comments Due: 5 p.m. ET 11/15/19.

Docket Numbers: ER20-189-000.

Applicants: Nevada Power Company.

Description: § 205(d) Rate Filing: Rate Schedule No. 96 to be effective 12/23/2019.

Filed Date: 10/24/19.

Accession Number: 20191024-5127.

Comments Due: 5 p.m. ET 11/14/19.

Docket Numbers: ER20-190-000.

Applicants: Crowned Ridge Interconnection, LLC.

Description: Baseline eTariff Filing: Crowned Ridge Interconnection, LLC & Crowned Ridge Wind, LLC SFA to be effective 11/25/2019.

Filed Date: 10/24/19.

Accession Number: 20191024-5130.

Comments Due: 5 p.m. ET 11/14/19.

Docket Numbers: ER20-191-000.

Applicants: Southwest Power Pool, Inc.

Description: Notice of Termination of Market Participant Service Agreement (No. 3360) of Southwest Power Pool, Inc. under ER20-191.

Filed Date: 10/24/19.

Accession Number: 20191024-5135.

Comments Due: 5 p.m. ET 11/14/19.

Docket Numbers: ER20-192-000.

Applicants: Niagara Mohawk Power Corporation, New York Independent System Operator, Inc.

Description: § 205(d) Rate Filing: LGIA Niagara Mohawk and Black River Hydroelectric (SA 2485) to be effective 9/30/2019.

Filed Date: 10/25/19.

Accession Number: 20191025-5023.

Comments Due: 5 p.m. ET 11/15/19.

Docket Numbers: ER20-193-000.

Applicants: Midcontinent Independent System Operator, Inc.

Description: § 205(d) Rate Filing: 2019-10-25_SA 3366 Calhoun Solar Energy-Consumers Energy FCA (J758) to be effective 10/11/2019.

Filed Date: 10/25/19.

Accession Number: 20191025-5024.

Comments Due: 5 p.m. ET 11/15/19.

Docket Numbers: ER20-194-000.

Applicants: Niagara Mohawk Power Corporation, New York Independent System Operator, Inc.

Description: § 205(d) Rate Filing: Amended/Restated IA SA 2472 NYISO, NMPC, HQUS re: Cedar Rapids TIP to be effective 10/16/2019.

Filed Date: 10/25/19.

Accession Number: 20191025-5026.

Comments Due: 5 p.m. ET 11/15/19.

Docket Numbers: ER20-195-000.

Applicants: Diamond Leaf Energy, LLC.

Description: Baseline eTariff Filing: Application for Market Based Rate to be effective 12/23/2019.

Filed Date: 10/25/19.

Accession Number: 20191025-5028.

Comments Due: 5 p.m. ET 11/15/19.

Docket Numbers: ER20-196-000.

Applicants: Midcontinent Independent System Operator, Inc.

Description: § 205(d) Rate Filing: 2019-10-25_SA 3365 METC-Calhoun Solar Energy GIA (J758) to be effective 10/11/2019.

Filed Date: 10/25/19.

Accession Number: 20191025-5030.

Comments Due: 5 p.m. ET 11/15/19.

Docket Numbers: ER20-197-000.

Applicants: Nevada Power Company.

Description: Tariff Cancellation: Rate Schedule No. 95 Notice of Termination to be effective 12/23/2019.

Filed Date: 10/25/19.

Accession Number: 20191025-5071.

Comments Due: 5 p.m. ET 11/15/19.

Docket Numbers: ER20-198-000.

Applicants: Nevada Power Company.

Description: Tariff Cancellation: Rate Schedule No. 156 Notice of Termination to be effective 12/23/2019.

Filed Date: 10/25/19.

Accession Number: 20191025-5105.

Comments Due: 5 p.m. ET 11/15/19.

Docket Numbers: ER20-199-000.

Applicants: Nevada Power Company.

Description: Tariff Cancellation: Rate Schedule No. 157 Notice of Termination to be effective 12/23/2019.

Filed Date: 10/25/19.

Accession Number: 20191025-5113.

Comments Due: 5 p.m. ET 11/15/19.

Docket Numbers: ER20-200-000.

Applicants: Nevada Power Company.

Description: § 205(d) Rate Filing: Rate Schedule 165 Concurrence to APS to be effective 12/23/2019.

Filed Date: 10/25/19.

Accession Number: 20191025-5129.

Comments Due: 5 p.m. ET 11/15/19.

Docket Numbers: ER20-201-000.

Applicants: Nevada Power Company.

Description: § 205(d) Rate Filing: Rate Schedule No. 166 Concurrence to APS to be effective 12/23/2019.

Filed Date: 10/25/19.

Accession Number: 20191025-5143.

Comments Due: 5 p.m. ET 11/15/19.

Docket Numbers: ER20-202-000.

Applicants: Nevada Power Company.

Description: § 205(d) Rate Filing: Rate Schedule No. 167 Concurrence to APS to be effective 12/23/2019.

Filed Date: 10/25/19.

Accession Number: 20191025-5152.

Comments Due: 5 p.m. ET 11/15/19.

Docket Numbers: ER20-203-000.

Applicants: New York Independent System Operator, Inc.

Description: § 205(d) Rate Filing: 205: Reliability Coordination Agreement between NYISO and Alcoa to be effective 10/25/2019.

Filed Date: 10/25/19.

Accession Number: 20191025-5153.

Comments Due: 5 p.m. ET 11/15/19.

Take notice that the Commission received the following public utility holding company filings:

Docket Numbers: PH20-1-000.

Applicants: Énergir Inc.

Description: Énergir Inc. submits FERC 65-B Waiver Notification.

Filed Date: 10/25/19.

Accession Number: 20191025-5147.

Comments Due: 5 p.m. ET 11/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2019.
Kimberly D. Bose,
Secretary.

[FR Doc. 2019-23839 Filed 10-31-19; 8:45 am]

BILLING CODE 6717-01-P